DEPARTMENT OF HOMELAND SECURITY

Federal Emergency Management Agency

[Docket ID FEMA-2022-0001]

New Mexico; Amendment No. 12 to Notice of a Major Disaster Declaration

AGENCY: Federal Emergency Management Agency, DHS.

ACTION: Notice.

SUMMARY: This notice amends the notice of a major disaster for the State of New Mexico (FEMA-4652-DR), dated May 4, 2022, and related determinations.

DATES: This amendment was issued September 30, 2022.

FOR FURTHER INFORMATION CONTACT: Dean Webster, Office of Response and Recovery, Federal Emergency Management Agency, 500 C Street SW, Washington, DC 20472, (202) 646-2833.

SUPPLEMENTARY INFORMATION: Notice is hereby given that certain cost share provisions for Public Assistance, Individual Assistance, and Hazard Mitigation grant programs under the major disaster declaration were waived in accordance with the Hermit's Peak/Calf Canyon Fire Assistance Act, Public Law 117-180, 136 Stat. 2114 (2022). The waiver applies to projects and programs undertaken in response to the Hermit's Peak and Calf Canyon fires. The Federal share of eligible costs will be 100 percent for the following affected areas and programs:

Mora and San Miguel Counties for Public Assistance including direct Federal, Hazard Mitigation, and Other Needs Assistance under the Individuals and Households Program in response to the Hermit's Peak and Calf Canyon Fires.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Deanne Criswell,
Administrator, Federal Emergency Management Agency.

[FR Doc. 2022-25759 Filed 11-23-22; 8:45 am]

BILLING CODE 9111-23-P